FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 020086F.

Name: Allfreight Worldwide Cargo, Inc.

Address: 4810 Beauregard Street, Ste. 100, Alexandria, VA 22312.

Date Revoked: July 11, 2009.

Reason: Failed to maintain a valid bond.

License Number: 016923F.

Name: Carolina Shipping Company, Inc.

Address: 1064 Gardner Road, Ste. 312, Charleston, SC 29415-0988.

Date Revoked: July 16, 2009.

Reason: Surrendered license voluntarily.

License Number: 004101F.

Name: Distribution Support Management, Inc.

Address: 75 Northcrest Drive, Newnan, GA 30265.

Date Revoked: July 17, 2009.

Reason: Failed to maintain a valid bond.

License Number: 020383NF.

Name: Eastern Direct System International Corp.

Address: 149-09 183rd Street, Jamaica, NY 11413.

Date Revoked: July 17, 2009.

Reason: Failed to maintain valid bonds.

License Number: 020815F.

Name: F.E.P.A. Enterprises, Inc. dba FEPA Logistics (USA).

Address: 17010 Buffalo Peak Court, Humble, TX 77346.

Date Revoked: July 3, 2009.

Reason: Failed to maintain a valid bond.

License Number: 018024F.

Name: Fabius Logistics, Inc.

Address: 181 Hudson Street, Ste. 2F, New York, NY 10013.

Date Revoked: July 9, 2009.

Reason: Surrendered license voluntarily.

License Number: 007984N.

Name: General Ocean Freight Container Lines, Inc.

Address: 300 West Carob Street, Compton, CA 90220.

Date Revoked: July 4, 2009.

Reason: Failed to maintain a valid bond.

License Number: 004186F.

Name: Hanmi Shipping, Inc.

Address: 2694 Coyle Ave., Elk Grove Village, IL 60007.

Date Revoked: July 10, 2009.

Reason: Failed to maintain a valid bond.

License Number: 020605NF.

Name: Ocean Express Marine USA Inc.

Address: 24-30 Milleed Way, Avenel, NJ 07001.

Date Revoked: June 21, 2009.

Reason: Failed to maintain valid bonds.

License Number: 016262N.

Name: Pro-Well Sea U.S.A. Inc.

Address: 14251 E. Don Julian Rd., City of Industry, CA 91746.

Date Revoked: July 4, 2009.

Reason: Failed to maintain a valid bond.

License Number: 016527N.

Name: Safeway Transport Co. Inc.

Address: 600 Meadowlands Pkwy., Ste. 147, Secaucus, NJ 07094.

Date Revoked: July 4, 2009.

Reason: Failed to maintain a valid bond.

License Number: 021667N.

Name: South Florida Logistic Partners, Inc.

Address: 330 SW 27th Ave., Ste. 605, Miami, FL 33135.

Date Revoked: July 1, 2009.

Reason: Failed to maintain a valid bond.

License Number: 019299N.

Name: Trans Atlantic Shipping, Inc. dba TAS, Inc.

Address: 1005 W. Arbor Vitae Street, Inglewood, CA 90301.

Date Revoked: July 11, 2009.

Reason: Failed to maintain a valid bond.

License Number: 019597N.

Name: United Cargo International, Inc.

Address: 30998 Huntwood Ave., #106, Hayward, CA 94544.

Date Revoked: July 8, 2009.

Reason: Failed to maintain a valid bond.

License Number: 019276N.

Name: Westcove Investments, Inc. dba Cargo Link International.

Address: 16725 E. Gale Ave., City of Industry, CA 91745.

Date Revoked: July 11, 2009.

Reason: Failed to maintain a valid bond.

Sandra L. Kusumoto,
Director, Bureau of Certification and Licensing.

[FR Doc. E9-18098 Filed 7-28-09; 8:45 am]

BILLING CODE 6730-01-P